DEPARTMENT OF LABOR

Office of the Secretary

Agency Information Collection Activities; Submission for OMB Review; Comment Request; Required Elements for Submission of the Unified or Combined State Plan and Plan Modifications Under the Workforce Innovation and Opportunity Act

ACTION: Notice.

SUMMARY: The Department of Labor (DOL) is submitting the Employment and Training Administration (ETA) sponsored information collection request (ICR) proposal titled, “Required Elements for Submission of the Unified or Combined State Plan and Plan Modifications under the Workforce Innovation and Opportunity Act,” to the Office of Management and Budget (OMB) for review and approval for use in accordance with the Paperwork Reduction Act (PRA) of 1995 (44 U.S.C. 3501 et seq.). Public comments on the ICR are invited.

DATES: The OMB will consider all written comments that agency receives on or before January 22, 2016.

ADDRESSES: A copy of this ICR with applicable supporting documentation; including a description of the likely respondents, proposed frequency of response, and estimated total burden may be obtained free of charge from the RegInfo.gov Web site at http://www.reginfo.gov/public/do/PRAViewICR?ref_nbr=201512-1205-001 (this link will only become active on the day following publication of this notice) or by contacting Seleda Perryman by telephone at 202-693-4131 (this is not a toll-free number) or by email at DOL_PRA_PUBLIC@dol.gov.

Submit comments about this request by mail or courier to the Office of Information and Regulatory Affairs, Attn: OMB Desk Officer for DOL-ETA, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION: Contact Seleda Perryman by telephone at 202-693-4131 (this is not a toll-free number) or by email at DOL_PRA_PUBLIC@dol.gov.

Authority: 44 U.S.C. 3507(a)(1)(D).

SUPPLEMENTARY INFORMATION: This ICR seeks PRA authority for the Required Elements for Submission of the Unified or Combined State Plan and Plan Modifications under the Workforce Innovation and Opportunity Act information collection. This information collection would implement WIOA sections 102 and 103 that require each State to submit a Unified State Plan or, in the alternative, a Combined State Plan. See 29 U.S.C. 3112 and 3113. The Unified or Combined State Plan requirements improve service integration and ensure that the workforce system is industry-relevant by responding to the economic needs of the State and matching employers with skilled workers. To that end, the Unified or Combined State Plan would describe how the State will develop and implement a unified, integrated service delivery system rather than discuss the State's approach to operating each core program individually.

This information collection is being cleared under a procedure that will allow other agencies to use the ICR. In order to ensure total burdens are correctly captured after all partner agencies have submitted requests to join in on this ICR, the burdens reflected in this specific request are only for the DOL share. Subsequent requests for agencies to join the information collection will not be subject to public comment, as those actions are considered to be non-material changes. WIOA sections 102 and 103 authorize this information collection. See 29 U.S.C. 3112 and 3113.

This proposed information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. For additional information, see the related notice published in the Federal Register on August 6, 2015 (80 FR 47003).

Interested parties are encouraged to send comments to the OMB, Office of Information and Regulatory Affairs at the address shown in the ADDRESSES section within thirty (30) days of publication of this notice in the Federal Register. In order to help ensure appropriate consideration, comments should mention OMB control number 1205-0522. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Required Elements for Submission of the Unified or Combined State Plan and Plan Modifications under the Workforce Innovation and Opportunity Act.

OMB Control Number: 1205-0522.

Affected Public: State, Local, and Tribal Governments.

Total Estimated Number of Respondents: 12.

Total Estimated Number of Responses: 12.

Total Estimated Annual Time Burden: 968 hours.

Total Estimated Annual Other Costs Burden: $0.

Dated: December 18, 2015.
Michel Smyth,
Departmental Clearance Officer.

[FR Doc. 2015-32278 Filed 12-22-15; 8:45 am]

BILLING CODE 4510-30-P